DEPARTMENT OF ENERGY

Federal Energy Regulatory Commission

Notice of Application Tendered for Filing With the Commission, Soliciting Additional Study Requests, and Establishing Procedures for Relicensing and a Deadline for Submission of Final Amendments

March 6, 2003.

Take notice that the following hydroelectric application has been filed with the Commission and is available for public inspection.

a. Type of Application: New Major License.

b. Project No.: 382-026.

c. Date Filed: February 26, 2003.

d. Applicant: Southern California Edison Company.

e. Name of Project: Borel Hydroelectric Project.

f. Location: On the Kern River near the town of Bodfish in kern County, California.

g. Filed Pursuant to: Federal Power Act 16 U.S.C. 791(a)-825(r).

h. Applicant Contact: Nino J. Mascolo, Senior Attorney, Southern California Edison Co., 2244 Walnut Grove Avenue, PO Box 800, Rosemead, California 91770; (626) 302-4459.

i. FERC Contact: Kenneth Hogan at (202) 502-8434 or kenneth.hogan@ferc.gov.

j. Cooperating agencies: We are asking Federal, state local and tribal agencies with jurisdiction and/or special expertise with respect to environmental issues to cooperate with us in the preparation of the environmental document. Agencies who would like to request cooperating status should follow instructions for filing comments described in item k below.

k. Deadline for filing additional study requests is 60 days from the date of this notice.

All documents (original and eight copies) should be filed with: Ms. Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests may be filed electronically via the Internet in lieu of paper. See 18 CFR 385.2001(a)(1)(iii) and the instructions on the Commission's Web site (http://www.ferc.gov) under the “e-Filing” link. After logging into the e-Filing system, selecte “Comment on Filing” from the Filing Type Selection screen and continue with the filing process.

l. This application is not ready for environmental analysis at this time.

m. The existing Borel Hydroelectric Project (Project) consists of: (1) 158-foot long, 4-foot-high concrete diversion dam with fishway; (2) a 61-foot-long intake structure with three 10-by 10-foot radial gates; (3) a canal inlet structure consisting of a canal intake, trash racks, and a sluice gate; (4) a flowline with a combined total length of 1,985-feet of tunnel, 1,651-feet of steel Lennon flume, 3,683-feet of steel siphon, and 51,835-feet of concrete-lined canal; (5) four steel penstock, penstocks 1 and 2 are 526-feet-long and 565-feet-long, respectively with varying diameters between 42 and 60 inches, penstocks 3 and 4 each have a 60-inch-diameter and extend 622-feet at which point they wye together to form a single 84-inch-diameter, 94-foot-long penstock; (6) a powerhouse with two 3,000 kW generators and a 6,000kW generator for a total installed capacity of 12,000 kW or 12 MW; and (7) other appurtenant facilities. The Project has no storage capability and relies on water releases from Lake Isabella made by the U.S. Army Corp of Engineers.

n. A copy of the application is on file with the Commission and is available for public inspection. This filing may also be viewed on the Commission's Web site at http://www.ferc.gov , using the “FERRIS” link. Enter the docket number excluding the last three digits in the docket number filed to access the document. For assistance, contact FERC Online Support at FERCOnlineSupport@ferc.gov or toll-free at (866) 208-3676, or for TTY, contact (202) 502-8659. A copy is also available for inspection and reproduction at the address in item h above.

o. With this notice, we are initiating consultation with the California State Historic Preservation Officer (SHPO), as required by § 106, National Historic Preservation Act, and the regulations of the Advisory Council on Historic Preservation, 36 CFR 800.4.

p. Procedural schedule and final amendments: The application will be processed according to the following milestones, some of which may be combined to expedite processing:

Issue Deficiency Letter—May, 2003.

Notice of application accepted for filing—July, 2003.

Issuance of NEPA Scoping Document 1, for comments—August, 2003.

Request for Additional Information—September, 2003.

Issuance of NEPA Scoping Document 2—October, 2003.

Notice of application is ready for environmental analysis—November, 2003.

Notice of the availability of the draft NEPA document—April, 2004.

Notice of the availability of the final NEPA document—September, 2004.

Order issuing the Commission's decision on the application—October, 2004.

Final amendments to the application must be filed with the Commission no later than 30 days from the issuance date of the notice of ready for environmental analysis.

Magalie R. Salas,
Secretary.

[FR Doc. 03-6028 Filed 3-12-03; 8:45 am]

BILLING CODE 6717-01-P